EQUAL EMPLOYMENT OPPORTUNITY COMMISSION

Sunshine Act Meeting

TIME AND DATE: Friday, January 15, 2021, 1:00 p.m. Eastern Time.

PLACE: Because of the COVID-19 pandemic, the meeting will be held as an audio-only conference. The public may listen to the audio-only conference by following the instructions that will be posted on www.eeoc.gov 24 hours before the meeting. Closed captioning services will be available.

STATUS: The meeting will be open to the public.

MATTER TO BE CONSIDERED: The following item will be considered:

Proposed Updated Compliance Manual on Religious Discrimination

Note: In accordance with the Sunshine Act, the public will be able to listen to the Commission's deliberations and voting. (In addition to publishing notices on EEOC Commission meetings in the Federal Register, the Commission also provides information about Commission meetings on its website, www.eeoc.gov. and provides a recorded announcement a week in advance on future Commission meetings.)

Please telephone (202) 663-7100 (voice) or (202) 921-2750, or email commissionmeetingcomments@eeoc.gov at any time for information on this meeting.

CONTACT PERSON FOR MORE INFORMATION: Rachel V. See, Acting Executive Officer, (202) 921-2545.

Dated: January 8, 2021.
Rachel V. See,
Acting Executive Officer, Executive Secretariat.

[FR Doc. 2021-00524 Filed 1-8-21; 4:15 pm]

BILLING CODE 6570-01-P